DEPARTMENT OF COMMERCE

National Oceanic and Atmospheric Administration

50 CFR Part 648

[Docket No. 051017270-5270-01; I.D. 093005B]

RIN 0648-AT85

Magnuson-Stevens Fishery Conservation and Management Act Provisions; Fisheries of the Northeastern United States; Atlantic Surfclam and Ocean Quahog Fishery; Proposed 2006 and 2007 Fishing Quotas for Ocean Quahogs

AGENCY: National Marine Fisheries Service (NMFS), National Oceanic and Atmospheric Administration (NOAA), Commerce.

ACTION: Proposed rule; request for comments.

SUMMARY: NMFS proposes quotas for the ocean quahog fishery for 2006 and 2007. Specifications for the Atlantic surfclam and Maine ocean quahog fishery, which remain unchanged from the multi-year quota specifications, are reprinted here for clarity. Regulations governing these fisheries require NMFS to publish the proposed specifications for the 2006 and 2007 fishing years and seek public comment on such proposed measures. The intent of this action is to propose allowable harvest levels of ocean quahogs from the Exclusive Economic Zone.

DATES: Comments must be received no later than 5 p.m., eastern standard time, on December 1, 2005.

ADDRESSES: Copies of supporting documents, including the Regulatory Impact Review (RIR) and Initial Regulatory Flexibility Analysis (IRFA) are available from Daniel Furlong, Executive Director, Mid-Atlantic Fishery Management Council, Room 2115, Federal Building, 300 South New Street, Dover, DE 19904-6790. A copy of the RIR/IRFA is accessible via the Internet at http://www.nero.noaa.gov/nero/regs/com.html.

Written comments on the proposed specifications may be submitted by any of the following methods:

• Mail: Patricia A. Kurkul, Regional Administrator, Northeast Region, NMFS, One Blackburn Drive, Gloucester, MA 01930-2298. Mark on the outside of the envelope, “Comments on Ocean Quahog Proposed Specifications.”

• Fax: (978) 281-9135.

• E-mail: 0648AT85@noaa.gov. Include in the subject line of the email the following document identifier: “Comments on Quahog Proposed Specifications.”

• Federal e-Rulemaking Portal: http://www.regulations.gov.

FOR FURTHER INFORMATION CONTACT: Brian R. Hooker, Fishery Policy Analyst, 978-281-9220.

SUPPLEMENTARY INFORMATION: The Fishery Management Plan for the Atlantic Surfclam and Ocean Quahog Fisheries (FMP) requires that NMFS, in consultation with the Mid-Atlantic Fishery Management Council (Council), specify quotas for surfclams and ocean quahogs on a 3-year basis, with an annual review, from a range that represents the optimum yield (OY) for each fishery. It is the policy of the Council that the levels selected allow sustainable fishing to continue at that level for at least 10 years for surfclams and 30 years for ocean quahogs. In addition to this constraint, the Council policy also considers the economic impacts of the quotas. Regulations implementing Amendment 10 to the FMP (63 FR 27481, May 19, 1998) added Maine ocean quahogs (locally known as mahogany quahogs) to the management unit, and provided that a small artisanal fishery for ocean quahogs in the waters north of 43 50' N. lat. has an annual quota with an initial amount of 100,000 Maine bushels (bu) (35,240 hectoliters (hL)) within a range of 17,000 to 100,000 Maine bu (5,991 to 35,240 hL). As specified in Amendment 10, the Maine mahogany ocean quahog quota is allocated separately from the quota specified for the ocean quahog fishery. Regulations implementing Amendment 13 to the FMP (68 FR 69970, December 16, 2003) established the ability to set multi-year quotas. An evaluation, in the form of an annual quota recommendation paper, is conducted by the Council every year to determine if the multi-year quota specifications remains appropriate. The fishing quotas must be in compliance with overfishing definitions for each species. In proposing these quotas, the Council considered the available stock assessments, data reported by harvesters and processors, and other relevant information concerning exploitable biomass and spawning biomass, fishing mortality rates, stock recruitment, projected fishing effort and catches, and areas closed to fishing.

In June 2005, the Council voted to recommend maintaining the 2005 quota of 5.333 million bu (284 million L) for the ocean quahog fishery for 2006 and 2007, which is a change from the existing specifications for these fishing years published in the Federal Register on January 12, 2005, (70 FR 2023). The Council recommended no change from the existing specifications for Atlantic surfclam and Maine ocean quahog for the 2006 and 2007 fishing years.

The proposed quotas for the 2006-2007 ocean quahog fishery are shown in the table below. The quotas for the Atlantic surfclam and Maine ocean quahog are re-stated in this table for clarity. The 2005 harvest level for ocean quahogs is proposed to be maintained for 2006-2007. The Atlantic surfclam and ocean quahog quotas are specified in standard bu of 53.24 L per bu, while the Maine mahogany ocean quahog quota is specified in “Maine” bu of 35.24 L per bu. Because Maine ocean quahogs are the same species as ocean quahogs, both fisheries are assessed under the same ocean quahog overfishing definition. When the two quota amounts (ocean quahog and Maine ocean quahog) are added, the total allowable harvest is still lower than the level that would result in overfishing for the entire stock.

PROPOSED 2006-2007 OCEAN QUAHOG¹ QUOTAS AND RE-STATEMENT OF ATLANTIC SURFCLAM¹ AND MAINE OCEAN QUAHOG QUOTAS
| 2006: bu | 2006: hL | 2007: bu | 2007: hL
Ocean Quahogs² | 5.333 | 2.840 | 5.333 | 2.840
Surfclams² | 3.400 | 1.810 | 3.400 | 1.810
Maine Ocean Quahogs³ | 100,000 | 35,240 | 100,000 | 35,240
¹Numerical values are in millions except for Maine ocean quahogs
²1 bu = 1.88 cubic ft. = 53.24 liters
³1 bu = 1.2445 cubic ft. = 35.24 liters

Ocean Quahogs

The proposed 2006-2007 quotas for ocean quahogs reflect a decrease from the current 2006-2007 specifications. The current regulations specify an increase in the 2005 ocean quahog quota from 5.333 million bu (284 million L) to 5.666 million bu (301.6 million L) in 2006 and 6.000 million bu (319.4 million L) in 2007. However, due to an unexpected surplus of ocean quahog product on the market, the planned increase in ocean quahog quota is no longer warranted. The assessment for ocean quahogs found that the current biomass is high, and the resource surveyed from southern New England to southern Virginia is not overfished and overfishing is not occurring. When there are market surpluses a quota allocation owner could simply choose not to fish their quota allocation, however this would leave a surplus of individual transferrable quota shares on the market. Many individuals participate in this fishery by leasing their excess quota shares on an annual basis. When harvests are reduced in response to market demand fishery participants that depend on income from leasing their quota incur a financial loss. National Standard 8 of the Magnuson-Stevens Fishery Conservation and Management Act (Magnuson-Stevens Act) requires that management measures should, to the extent practicable, minimize adverse economic impacts on fishing communities. This action would reduce the amount of quota shares on the market ensuring the sustained participation of individuals dependent on the annual lease of ocean quahog quota shares.

Classification

This action is authorized by 50 CFR part 648 and has been determined to be not significant for purposes of Executive Order 12866.

Pursuant to 5 U.S.C. 603, an IRFA has been prepared, which describes the economic impacts that this proposed rule, if adopted, would have on small entities. A description of the reasons why this action is being considered, as well as the objectives of and legal basis for this proposed rule is found in the preamble to this document. There are no Federal rules that duplicate, overlap, or conflict with the proposed rule. This action proposes to reduce the 2006 and 2007 ocean quahog fishing quotas from those currently in place. This action was compared to four different quota alternatives for the 2006 and 2007 fishing years. The other quota alternatives included reducing the ocean quahog quota to the minimum quota allowable under the FMP (4.000 million bu (213 million L)) for 2006 and 2007; a slight decrease from the 2005 quota level to 5.000 million bu (266.18 million L) for 2006 and 2007; no action that would maintain the incremental quota increase for 2006 (5.666 million bu (301.6 million L)) and 2007 (6.000 million bu (319.4 million L)); and the maximum quota allowable under the FMP (6.000 million bu (319.4 million L)) for 2006 and 2007.

Description and Estimate of the Number of Small Entities to Which this Proposed Rule Would Apply

The Small Business Administration (SBA) defines a small commercial fishing entity as a firm with gross receipts not exceeding $3.5 million. In 2004, a total of 29 vessels reported harvesting surfclams and/or ocean quahogs from Federal waters under an Individual Transferable Quota (ITQ) system. Average 2004 gross income for ocean quahog harvesters was $789,748 per vessel. Each vessel in this analysis is treated as a single entity for purposes of size determination and impact assessment. All 29 commercial fishing entities would fall under the SBA size standard for small commercial fishing entities. Additionally, there is a total of 56 ocean quahog quota allocation owners as of August 22, 2005. An allocation owner may choose to fish or lease his or her quota allocation.

Economic Impacts of this Proposed Action

By foregoing the planned increase of ocean quahog quota shares on the market it is hoped that entities that depend on the sale or lease of quota shares will continue to be able to participate in the fishery. Leaving the quota at the 2005 harvest level of 5.333 million bu (284 million L) it is not expected to constrain the fishery. In fact, the total 2005 harvest is not expected to exceed 3.000 million bu (159.72 million L). As of September 15, 2005, only 2.1 million bu (111.80 million L), which is just over 40 percent of the available quota, was harvested with only three months left in the 12-month fishing year. By not increasing the quota, companies that have access to steady product demand may be required to lease or buy quota to fulfill their needs.

Economic Impacts of Alternatives to the Proposed Action

The Council analyzed four ocean quahog quota alternatives in addition to the preferred alternative. The alternatives are as follows: the preferred alternative of maintaining the 2005 quota level; an alternative with a 25-percent (1.333 million bu (71 million L)) decrease; an alternative with the 2004 status quo of 5.000 million bushels (266.18 million L); an alternative with a 6.2-percent (0.333 million bu (17.73 million L)) increase; and an alternative with an increase to the maximum allowable quota (6.000 million bu (319.4 million L)). The minimum allowable quota specified in the current OY range is 4.000 million bu (212.94 million L) of ocean quahogs. Adoption of a 4.000 million bu (212.94 million L) quota would represent a 25-percent decrease from the current quota. This alternative would take the most conservative approach to managing the fishery that is currently available to the Council, but would result in the fewest economic benefits available to the ocean quahog fishery because it would produce the fewest landings. The alternative to reduce the quota to 5.000 million bu (266.18 million L) would reduce the amount of available quota share and thus the overall quota to the 2004 level. This alternative is not preferred because the industry believes that a reduction in quota from 2005 would communicate shortages in supply or harvesting capacity to the market. The other alternatives all propose to increase the quota. These are not preferred as they would create a fishery-wide surplus of quota share that could prevent small fishing entities from leasing or selling their individual surplus quota share to other entities with access to a steady market. The Council concluded that while an increase is not warranted at this time they chose also to keep some flexibility in the quota so the industry would be able to react to an increase in product demand. However, the Council remains concerned that the industry does not currently have a market available to absorb a large increase in landings that quickly. Given this information, the Council and NMFS recommend maintaining the 2005 ocean quahog quota level for 2006 and 2007.

Reporting and Recordkeeping Requirements

This proposed rule would not impose any new reporting, recordkeeping, or other compliance requirements. Therefore, the costs of compliance would remain unchanged.

Authority: 16 U.S.C. 1801 et seq.

Dated: October 26, 2005.
John Oliver,
Deputy Assistant Administrator for Operations, National Marine Fisheries Service.

[FR Doc. 05-21772 Filed 10-31-05; 8:45 am]

BILLING CODE 3510-22-S